DEPARTMENT OF AGRICULTURE

Forest Service

Shore Nuf Timber Sale, Willamette National Forest, Linn and Marion Counties, Oregon

AGENCY: Forest Service, USDA.

ACTION: Notice of Intent to prepare an environmental impact statement.

SUMMARY: The USDA Forest Service gives notice that it will prepare an environmental impact statement (EIS) for the Shore Nuf Timber Sale Project proposal. The project area is located approximately 50 miles east of Salem, Oregon on the western slopes of the Cascade Mountains, near Detroit Lake and the City of Detroit, Oregon on the Detroit Ranger District of the Williamette National Forest. The Shore Nuf Timber Sale would occur during the next five years on approximately 1200 acres of the Detroit Tributaries Watershed, and includes the following proposed actions:

1. Thin approximately 1200 acres of second growth Douglas fir stands, to reduce stocking levels while maintaining a 50 to 70 percent average canopy closure;

2. Thin selected portions of riparian reserves that are within, or adjacent to the proposed thinning stands, to develop late successional characteristics in riparian areas;

3. Treat pockets of Phellinus weirii and other root rots occurring in the proposed thinning stands by removing all of the affected trees within the infection site and/or within a buffer around the infection site, to prevent the spread of the Phellinus weirii and other diseases; and

4. Create eight small openings, up to three acres each, along the Blowout Road and Stahlman trail to provide views of Detroit Lake and the surrounding area.

The proposed action also includes the following associated actions:

1. Construct approximately 2.0 miles of temporary roads to access thinning units, and after implementation of the thinning, obliterate the roads by ripping, seeding, and re-establishing natural drainage patterns;

2. Reconstruct approximately 6.0 miles of existing roads that are currently inaccessible due to slides, overgrown vegetation, water damage, and downed trees;

3. Construct, reconstruct, or modify landings for helicopters, skylines, and ground based yarding systems;

4. Treat slash created by the thinning activities in areas where there is a high risk of fire starts, such as campgrounds, summer homes and major roads, by hand piling and burning slash; and

5. Reforest the treated Phellinus weirii and other root rot pockets by planting species that are not susceptible to root rot such as native hardwoods.

The Detroit District Ranger will decide whether to implement the project as proposed, to implement a modified proposal, to implement an alternative to the proposal, or to take no action at this time.

DATES: Written comments concerning the scope and implementation of this proposal should be received on or before October 30, 2000.

ADDRESSES: Submit written comments or suggestions concerning this project to Stephanie Phillips, District Ranger, Detroit Ranger District, HC73 Box 320, Mill City, Oregon 97360.

FOR FURTHER INFORMATION CONTACT: Please direct questions about the proposed action and EIS to Jim Romero, District Planner at (503) 854-3366.

SUPPLEMENTARY INFORMATION: The 1200 acres selected for commercial thinning are located along Blowout Creek (Forest Road 10), French Creek (Forest Road 2223), and Piety Island near Detroit Lake. These stands were established primarily through natural seeding following logging or large fires in the early 1900's. Most stands date to a single large fire, which occurred in the Detroit Reservoir Area in 1919. Stands in the French Creek area were logged in the 1930's but have similar characteristics to stands harvested earlier. These stands are predominantly Douglas-fir, and have about 150-300 trees per acre, resulting in greater than 90% canopy closure. The trees range in size from 9 to 21 inches in diameter. Generally, the stands have only one canopy layer with sparse to light ground vegetation as a result of the dense canopy closure. Given this, the stands support a less diverse range of wildlife species (primarily fewer late successional species) and are prone to crown-type fires. Because of the age and density of these stands, future growth projections, and increased mortality due to tree competition, these stands will not attain large diameter trees, open spacing, and structural diversity (multiple canopy layers) for many years.

The Detroit Ranger District, over the past several years, has commercially thinned using helicopters in stands similar to those proposed for treatment in the Shore Nuf Timber Sale project area, including thinning in riparian reserves. The results of these sales have had virtually no effect on scenic quality, water quality, or substantial amounts of slash left from the thinning. The thinning would achieve a 50-70 percent average canopy closure to meet wildlife and hydrologic needs. Thinning would be applied within selected riparian reserves to control stocking, re-establish and manage stands, and acquire desired vegetation characteristics needed to attain Aquatic Conservation Strategy Objectives. Thinning would take place outside of the wet area of the riparian reserve and outside of the portion contributing to channel bank stability.

Treating the Phellinus weirii and other root rot pockets would result in several small openings varying in size from about one to five acres. The total area affected by the treatment is approximately one to five percent of the thinned area. Reforesting the affected areas would occur with non-susceptible species such as hardwoods. There is a need for this treatment to minimize the spread of the infection by removing the host species in the infection site and/or within its path of spread.

The combination of commercial thinning and creation of small openings along the Blowout Road (Forest Road 10) would improve views of Detroit Reservoir as seen from the road. Thinnings would also occur adjacent to private lands within the project area to reduce the edge effect created by large clearcuts on private lands.

The proposal includes using a helicopter to yard the logs on about two-thirds of 1200 acres of thinning, and to use both skyline and ground-based yarding systems on the remaining one-third of the area. The timber sale would result in the sale of approximately 10 to 15 MMBF of commercial wood products such as saw logs.

The need for the Shure Nuf Timber Sale Project is to reduce the total number of trees per acre to lessen competition for nutrients, sunlight, and growing space. This would improve the growth and vigor of the remaining trees resulting in healthier stands of trees that are more resistant to insects and disease. The trees would also reach larger diameters and exhibit late successional stand characteristics sooner. Thinning the smaller diameter, suppressed trees before they die would reduce the fuel buildup and fire risk, and have the added benefit of utilizing the trees for commercial wood products. The thinning would open the stand canopies, letting sunlight reach the forest floor, thus resulting in increased shrub and hardwood growth, which would enhance diversity for wildlife habitat. The open stands with a diverse understory would also enhance the scenic quality along the forest roads in this heavily used recreation area.

The USDA Forest Service is seeking information and comments from Federal, State and local agencies, as well as, other individuals or organizations that may be interested in, or affected by, the proposed action. Information that would be especially useful would be identification of issues, exploration of additional alternatives based on the issues, and identifying potential environmental effects of the proposed action and alternatives to the proposal. Public involvement will include periodic mailings to interested persons as the project progresses, and possibly field trips and public meetings depending on the level of public interest for the project. Information on field trips and meetings will be announced later.

The following is a description of the preliminary issues identified for this project: (1) Noise from helicopters, harvest equipment, log trucks and increased truck traffic could be disturbing to local residents and recreation users, potentially impacting local tourism and the related tourist economy during harvest operations, and (2) There is concern that noxious weeds could spread to areas where mineral soil has been exposed due to road and landing construction.

The comment period on the draft EIS will be 45 days from the date the Environmental Protection Agency publishes the notice of availability in the Federal Register. The draft environmental impact statement is scheduled for release in January, 2001. It is expected that the final environmental impact statement will be released in April, 2001.

Comments received in response to this notice, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27 (d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

The USDA Forest Service believes it is important to give reviewers notice at this early stage as a result of several court rulings related to public participation in the environmental review process. First, reviewers of a draft EIS must structure their participation in the environmental review of the proposal so that it is meaningful and alerts an agency to the reviewer's position and contentions. Vermont Yankee Nuclear Power Corp. v. NRDC, 435 U.S. 519,553 (1978). Also, environmental objections that could be raised at the draft EIS stage but that are not raised until after completion of the final EIS may be waived or dismissed by the courts. City of Angoon v. Hodel, 803 F.2d 1016, 1022 (9th Cir, 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the USDA Forest Service in identifying and considering issues and concerns on the proposed action, comments on the draft EIS should be as specific as possible. It is also helpful if comments refer to specific pages of chapters of the draft statement. Comments may also address the adequacy of the draft EIS or the merits of the alternatives formulated and discussed in the statement. (Reviewers may wish to refer to the Council on Environmental Quality Regulations for implementing the procedural provisions of the National Environmental Policy Act at 40 CFR 1503.3 in addressing these points).

The lead agency for this project is the USDA Forest Service, Willamette National Forest. The deciding official is Stephanie Phillips, District Ranger, Detroit Ranger District of the Willamette National Forest. The Record of Decision for this project will document the decision and rationale for the decision. That decision is subject to appeal under 36 CFR part 215.

Dated: August 29, 2000.
Stephanie Phillips,
Detroit District Ranger, Willamette National Forest.

[FR Doc. 00-23729 Filed 9-14-00; 8:45 am]

BILLING CODE 3410-11-M